DEPARTMENT OF COMMERCE

International Trade Administration

[A-533-873]

Certain Cold-Drawn Mechanical Tubing of Carbon and Alloy Steel From India: Preliminary Results of Antidumping Duty Administrative Review, Partial Rescission of Review, and Partial Discontinuation of Review; 2017-2019

AGENCY: Enforcement and Compliance, International Trade Administration, Department of Commerce.

SUMMARY: The Department of Commerce (Commerce) preliminarily determines that certain cold-drawn mechanical tubing of carbon and alloy steel (cold-drawn mechanical tubing) from India were made at less than normal value during the period of review (POR) November 22, 2017 through May 31, 2019. We are also rescinding this review with respect to 14 companies, and discontinuing this review with respect to one company. We invite interested parties to comment on these preliminary results.

DATES: Applicable October 21, 2020.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On June 11, 2018, Commerce published the antidumping duty order on cold-drawn mechanical tubing from India.¹ On July 29, 2019, in accordance with 19 CFR 351.221(c)(i), Commerce initiated an administrative review of the Order, covering 16 producers/exporters.² As a result of the partial rescission and partial discontinuation of this review, discussed further below, the sole remaining producer/exporter under review is Tube Products of India, Ltd., a unit of Tube Investments of India Limited (collectively, TII). For details regarding the events that followed the initiation of this review, see the Preliminary Decision Memorandum.³

¹ See Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (Order).

² See Initiation of Antidumping and Countervailing Duty Administrative Reviews, 84 FR 36572 (July 29, 2019).

³ See Memorandum, “Decision Memorandum for Preliminary Results of Antidumping Duty Administrative Review: Certain Cold-Drawn Mechanical Tubing of Carbon and Alloy Steel from India; 2017-2019,” dated concurrently with, and hereby adopted by, this notice (Preliminary Decision Memorandum).

Pursuant to section 751(a)(3)(A) of the Tariff Act of 1930, as amended (the Act), Commerce determined that it was not practicable to complete the preliminary results of this review within 245 days and extended the deadline for the preliminary results of this review by 117 days, until June 26, 2020.⁴ On April 24, 2020, Commerce tolled all deadlines in administrative reviews by 50 days.⁵ On July 21, 2020, Commerce tolled deadlines for all preliminary and final results in administrative reviews by an additional 60 days.⁶ The deadline for the preliminary results of this review is now October 14, 2020.

⁴ See Memorandum, “Cold-Drawn Mechanical Tubing from India: Extension of Deadline for Preliminary Results of Antidumping Duty Administrative Review,” dated February 24, 2020.

⁵ See Memorandum, “Tolling of Deadlines for Antidumping and Countervailing Duty Administrative Reviews in Response to Operational Adjustments Due to COVID-19,” dated April 24, 2020.

⁶ See Memorandum, “Tolling of Deadlines for Antidumping and Countervailing Duty Administrative Reviews,” dated July 21, 2020.

Scope of the Order

The product covered by this order is cold-drawn mechanical tubing from India. For a full description of the scope, see the Preliminary Decision Memorandum.

Methodology

Commerce is conducting this review in accordance with section 751(a) of the Act. For a full description of the methodology underlying these preliminary results, see the Preliminary Decision Memorandum. A list of topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov, and is available to all parties in the Central Records Unit, room B8024 of the main Commerce building. In addition, a complete version of the Preliminary Decision Memorandum is available at http://enforcement.trade.gov/frn/. The signed and electronic versions of the Preliminary Decision Memorandum are identical in content.

Preliminary Results of the Review

We preliminarily determine that the following weighted-average dumping margin exists for the period November 22, 2017 through May 31, 2019:

Exporter/producer | Weighted- average dumping margin (percent)
Tube Products of India, Ltd., a unit of Tube Investments of India Limited | 7.93

Partial Rescission of Review

Pursuant to 19 CFR 351.213(d)(1), Commerce will rescind an administrative review, in whole or in part, if the party that requested a review withdraws its request within 90 days of the date of publication of the notice of initiation. Subsequent to the initiation of this administrative review, the petitioners ⁷ timely withdrew their request for an administrative review of 14 companies: APL Apollo Tubes Ltd.; Automotive Steel Pipe; Hyundai Steel Pipe India Pvt., Ltd.; ISMT Limited; Jindal (India) Ltd.; Jindal Saw Ltd.; Khanna Industries Pipes Pvt. Ltd.; KLT Automotive Tubular Products Ltd.; Patton International Ltd.; Sandvik Asia Pvt. Ltd.; Surya Global Steel Tubes Ltd.; Surya Roshni Ltd.; Tata Steel Bsl Ltd. (fka Bhushan Steel Ltd.); and Zenith Birla Steels (India) Pvt., Ltd.⁸ No other party requested a review of these producers/exporters. As a result, Commerce is rescinding this review with respect to these 14 companies, in accordance with 19 CFR 351.213(d)(1).

⁷ The petitioners are ArcelorMittal Tubular Products LLC, Michigan Seamless Tube, LLC, PTC Alliance Corp., and Webco Industries, Inc.

⁸ See Petitioners' Letter, “Cold-Drawn Mechanical Tubing from India—Domestic Industry's Partial Withdrawal of Request for First Administrative Review,” dated October 8, 2019.

Partial Discontinuation of Review

On May 27, 2020, Commerce published a notice of a court decision not in harmony with a final determination in the less-than-fair-value (LTFV) investigation of cold-drawn mechanical tubing from India.⁹ At that time, Commerce amended its final determination in the LTFV investigation and revised the antidumping duty margin calculated for Goodluck India Limited (Goodluck).¹⁰ Additionally, in the Timken Notice, Commerce stated that it was implementing a partial exclusion from the Order for merchandise produced and exported by Goodluck.¹¹ As a result, we are hereby discontinuing this review with respect to Goodluck because Goodluck only made sales to the United States of merchandise that it produced and exported.¹²

⁹ See Certain Cold-Drawn Mechanical Tubing of Carbon and Alloy Steel From India: Notice of Court Decision Not in Harmony With Final Determination of Sales at Less Than Fair Value; Notice of Amended Final Determination Pursuant to Court Decision; and Notice of Revocation of Antidumping Duty Order, in Part, 85 FR 31742 (May 27, 2020) (Timken Notice).

¹⁰ Id., 85 FR at 31743.

¹¹ Id. The partial exclusion covers merchandise produced and exported by Goodluck. However, entries that were produced, but not exported, by Goodluck, and/or entries that were exported, but not produced, by Goodluck are not covered by the exclusion.

¹² See Goodluck's Letter, “Goodluck Sections B, C, and D Questionnaire Response: Antidumping Duty Administrative Review on Certain Cold-Drawn Mechanical Tubing of Carbon and Alloy Steel from India,” December 16, 2019, at Section C.

Disclosure and Public Comment

We intend to disclose the calculations performed to parties within five days after public announcement of the preliminary results.¹³ Pursuant to 19 CFR 351.309(c), interested parties may submit case briefs no later than 30 days after the date of publication of this notice. Rebuttal briefs, limited to issues raised in the case briefs, may be filed not later than seven days after the date for filing case briefs.¹⁴ Parties who submit case briefs or rebuttal briefs in this proceeding are encouraged to submit with each argument: (1) A statement of the issue, (2) a brief summary of the argument, and (3) a table of authorities.¹⁵ Executive summaries should be limited to five pages total, including footnotes. Case and rebuttal briefs should be filed using ACCESS ¹⁶ and must be served on interested parties.¹⁷ Note that Commerce has temporarily modified certain of its requirements for serving documents containing business proprietary information, until further notice.¹⁸

¹³ See 19 CFR 351.224(b).

¹⁴ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹⁵ See 19 CFR 351.303 (for general filing requirements).

¹⁶ See generally 19 CFR 351.303.

¹⁷ See 19 CFR 351.303(f).

¹⁸ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by Commerce's electronic records system, ACCESS, by 5:00 p.m. Eastern Time within 30 days after the date of publication of this notice. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of issues to be discussed. Issues raised in the hearing will be limited to those raised in the respective case and rebuttal briefs. If a request for a hearing is made, Commerce intends to hold the hearing at a time and date to be determined.

Assessment Rates

Upon completion of the final results, Commerce shall determine, and U.S. Customs and Border Protection (CBP) shall assess, antidumping duties on all appropriate entries. If TII's weighted-average dumping margin is not zero or de minimis (i.e., less than 0.5 percent) in the final results of this review, we will calculate importer-specific ad valorem antidumping duty assessment rates based on the ratio of the total amount of dumping calculated for the importer's examined sales to the total entered value of those same sales in accordance with 19 CFR 351.212(b)(1). We will instruct CBP to assess antidumping duties on all appropriate entries covered by this review when the importer-specific assessment rate calculated in the final results of this review is not zero or de minimis. If TII's weighted-average dumping margin is zero or de minimis, we will instruct CBP to liquidate the appropriate entries without regard to antidumping duties. The final results of this review shall be the basis for the assessment of antidumping duties on entries of merchandise covered by the final results of this review and for future deposits of estimated duties, where applicable.¹⁹

¹⁹ See section 751(a)(2)(C) of the Act.

For entries of subject merchandise during the POR produced by TII for which it did not know that the merchandise was destined for the United States, we will instruct CBP to liquidate those entries at the all-others rate if there is no rate for the intermediate company(ies) involved in the transaction.²⁰ We intend to issue liquidation instructions covering TII's entries to CBP 15 days after publication of the final results of this review.

²⁰ For a full discussion of this practice, see Antidumping and Countervailing Duty Proceedings: Assessment of Antidumping Duties, 68 FR 23954 (May 6, 2003).

For the companies for which this review is rescinded, antidumping duties shall be assessed at rates equal to the cash deposit of estimated antidumping duties required at the time of entry, or withdrawal from warehouse for consumption, in accordance with 19 CFR 351.212(c)(l)(i). Commerce intends to issue appropriate assessment instructions to CBP 15 days after publication of this notice.

For Goodluck, as noted in the Timken Notice, the suspension of liquidation of Goodluck's entries must continue during the pendency of the appeal process.²¹ The Court of International Trade's ruling has been appealed. If the ruling is upheld by the Court of Appeals for the Federal Circuit, Commerce will instruct CBP to terminate the suspension of liquidation and to liquidate entries produced and exported by Goodluck without regard to antidumping duties.

²¹ Id.

Cash Deposit Requirements

The following cash deposit requirements will be effective for all shipments of the subject merchandise entered, or withdrawn from warehouse, for consumption on or after the publication date of the finals results of this administrative review, as provided by section 751(a)(2)(C) of the Act: (1) The cash deposit rate for TII in the final results of review will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review or the original investigation but the producer is, then the cash deposit rate will be the rate established for the most recently completed segment of this proceeding for the producer of the merchandise; (4) the cash deposit rate for all other producers or exporters will continue to be 5.87 percent,²² the all-others rate established in the LTFV investigation. These cash deposit requirements, when imposed, shall remain in effect until further notice.

²² See Order, 83 FR at 16296.

Final Results of Review

Unless otherwise extended, Commerce intends intend to issue the final results of this administrative review, including the results of our analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.221(b)(4).

Dated: October 14, 2020.
Jeffrey I. Kessler,
Assistant Secretary for Enforcement and Compliance.

Appendix

List of Topics Discussed in the Preliminary Decision Memorandum

I. Summary

II. Background

III. Partial Rescission and Partial Discontinuation of Review

IV. Scope of the Order

V. Discussion of the Methodology

VI. Product Comparisons

VII. Date of Sale

VIII. Export Price

IX. Normal Value

X. Currency Conversion

XI. Recommendation

[FR Doc. 2020-23270 Filed 10-20-20; 8:45 am]

BILLING CODE 3510-DS-P